DEPARTMENT OF HEALTH AND HUMAN SERVICES

Public Health Service

National Toxicology Program (NTP) Board of Scientific Counselors Technical Reports Review Subcommittee Meeting; Review of Draft NTP Technical Reports

Pursuant to Public Law 92-463, notice is hereby given of the next meeting of the NTP Board of Scientific Counselors Technical Reports Review Subcommittee on October 18, 2001 in the Rodbell Auditorium, Rall Building, South Campus, National Institute of Environmental Health Sciences (NIEHS), 111 Alexander Drive, Research Triangle Park, North Carolina. The meeting will begin at 8:30 a.m. on October 18, and is open to the public. The primary agenda topic is the peer review of draft Technical Reports of rodent toxicology and carcinogenesis studies conducted by the NTP.

Agenda

Tentatively scheduled for review on October 18, are draft Technical Reports of three 2-year studies and a draft Toxicity Report of toxicity and metabolism studies. The reports are listed alphabetically in the attached table and the tentative order of review is given in the far right column.

The agenda and roster of subcommittee members will be available prior to the meeting on the NTP web homepage at http://ntp-server.niehs.nih.gov and upon request to the Executive Secretary at the address given below. Following the meeting, summary minutes will be available electronically on the NTP web homepage and in hardcopy upon request to the Executive Secretary.

Attendance at this meeting is limited only by the space available. Individuals who plan to attend and need special assistance are asked to notify the Executive Secretary in advance of the meeting.

Draft Reports Available for Public Review and Comment

Approximately one month prior to the meeting, the draft reports will be available for public review, free of charge, through the Environmental Health Information Service (EHIS) at http://ehis.niehs.nih.gov. Printed copies can be obtained, as available, from: Central Data Management (CDM), NIEHS, P.O. Box 12233, MD E1-02, Research Triangle Park, NC 27709, T: 919-541-3419, Fax: 919-541-3687, e-mail: CDM@niehs.nih.gov.

The NTP Board of Scientific Counselors Technical Reports Review Subcommittee meeting is open to the public and public comment on any of the Technical Reports is welcome. Time will be provided at the meeting for public comment on each of the Reports under review. In order to facilitate planning for the meeting, persons requesting time for an oral presentation on a particular Report are asked to notify the Executive Secretary, Dr. Mary S. Wolfe, at P.O. Box 12233, MD A3-07, Research Triangle Park, NC 27709, T: 919-541-3971, Fax: 919-541-0295, e-mail: wolfe@niehs.nih.gov. Persons registering to make comments are asked to provide, if possible, a written copy of their statement by October 11, to enable review by the Subcommittee and NTP staff prior to the meeting. Written statements can supplement and may expand the oral presentation. Each speaker is asked to provide his/her name, affiliation, mailing address, phone, fax, e-mail, and supporting organization (if any). At least seven minutes will be allotted to each speaker, and if time permits, may be extended to ten minutes. Each organization is allowed one time slot per Report being reviewed. Registration for making public comments will also be available on-site. If registering on-site to speak and reading comments from printed copy, the speaker is asked to provide 25 copies of the statement. These copies will be distributed to the Subcommittee and NTP staff and will supplement the record.

Written comments, in lieu of an oral presentation, are also welcome. The comments should include name, affiliation, mailing address, phone, fax, e-mail, and sponsoring organization (if any) and preferably be received by October 11, to enable review by the Subcommittee and NTP staff prior to the meeting as well as to supplement the record.

Request for Additional Information

The NTP would welcome receiving toxicology and carcinogenesis information from completed, ongoing or planned studies as well as current production data, human exposure information, and use patterns for any of the chemicals listed in this announcement. Please forward this information to CDM at the address given above. CDM will forward the information to the appropriate staff scientist.

NTP Technical and Toxicity Report Series

The NTP conducts toxicology and carcinogenesis studies of agents of public health concern. Any scientist, organization, or member of the public may nominate a chemical for NTP testing. Details about the nomination process are available on the NTP web site (http://ntp-server.niehs.nih.gov). The results of short-term rodent toxicology studies are published in the NTP Toxicity Report series. Longer-term studies, generally, two-year rodent studies, are published in the NTP Technical Report series. Study abstracts for all reports are available at the NTP web site under NTP Study Information. Hardcopies and PDF files of published reports can be obtained through subscription to the EHIS (http://ehis.niehs.nih.gov or 1-800-315-3010).

NTP Board of Scientific Counselors

The Board is a technical advisory body composed of scientists from the public and private sectors who provide primary scientific oversight and peer review to the overall Program. Specifically, the Board advises the NTP on matters of scientific program content, both present and future, and conducts periodic review of the Program for the purposes of determining and advising on the scientific merit of its activities and their overall scientific quality. The Technical Reports Review Subcommittee of the Board provides scientific peer review of the findings and conclusions of NTP Technical Reports. The Report on Carcinogens Subcommittee of the Board provides scientific peer review of nominations to the Report on Carcinogens, a Congressionally mandated listing of agents known or reasonably anticipated to be human carcinogens.

The Board's members are selected from recognized authorities knowledgeable in fields such as toxicology, pharmacology, pathology, biochemistry, epidemiology, risk assessment, carcinogenesis, mutagenesis, molecular biology, behavioral and neurotoxicology, immunotoxicology, reproductive toxicology or teratology, and biostatistics. The NTP strives for equitable geographic distribution and minority and female representation on the Board.

Dated:
Samuel H. Wilson,
Deputy Director, National Institute of Environmental Health Sciences.

Technical and Toxicity Reports Tentatively Scheduled for Review by the NTP Board of Scientific Counselors Technical Reports Review Subcommittee on October 18, 2001
Chemical CAS number | Report number | Primary uses | Route & exposure levels | Review order
Diazoaminobenzene 136-35-6 | TOX-73 | Used as a laboratory reagent; occurs as a contaminant in some cosmetics. | 17-day dermal exposure toxicity study. Rats & Mice: 12.5, 25, 50, 100, or 200 mg/kg. Intravenous, intragastric and dermal metabolism studies in rats and mice. | 4
2,4-Hexadienal 142-83-6 | TR-509 | Occurs naturally as a peroxidation product of fatty acids; used as a flavoring agent and preservative. | Gavage (corn oil vehicle) Rats: 0, 22.5, 45, or 90 mg/kg Mice: 30, 60 or 120 mg/kg | 3
Riddelliine 23246-96-0 | TR-508 | Plant alkaloid occurring in a range of plants in western states. | Gavage (phosphate buffer vehicle) Male Rats: mg/kg; Female Rats: 0.01, 0.033, 0.1, 0.33, or 1 mg/kg Male Mice: 0.1, 0.3, 1, or 3 mg/kg; Female Mice: 3 mg/kg | 1
Vanadium Pentoxide 1314-62-1 | TR-507 | Used as a catalyst and in alloys; primary human exposure comes from cleaning oil-fired furnaces. | Inhalation of particulates Rats: 0.5, 1, or 2 mg/m³ Mice: 1, 2, or 4 mg/m³ | 2

[FR Doc. 01-22789 Filed 9-10-01; 8:45 am]

BILLING CODE 4140-01-P